DEPARTMENT OF COMMERCE

National Oceanic and Atmospheric Administration

Agency Information Collection Activities; Submission to the Office of Management and Budget (OMB) for Review and Approval; Comment Request; Aleutian Islands Pollock Fishery Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 3, 2025.

ADDRESSES: Interested persons are invited to submit written comments to Adrienne Thomas, NOAA PRA Officer, at NOAA.PRA@noaa.gov. Please reference OMB Control Number 0648-0513 in the subject line of your comments. All comments received are part of the public record and will generally be posted on https://www.regulations.gov without change. Do not submit Confidential Business Information or otherwise sensitive or protected information.

FOR FURTHER INFORMATION CONTACT: Requests for additional information or specific questions related to collection activities should be directed to Gabrielle Aberle, National Marine Fisheries Service, P.O. Box 21668, Juneau, AK 99802-1668, (323) 372-0062, gabrielle.aberle@noaa.gov.

SUPPLEMENTARY INFORMATION:

I. Abstract

This is a request for renewal of an approved information collection. The National Marine Fisheries Service, Alaska Regional Office (NMFS AKR), is the sponsor of this information collection, which contains the requirements for the annual participant letter for the Aleutian Islands pollock fishery.

NMFS AKR manages the groundfish fisheries in the exclusive economic zone of the Bering Sea and Aleutian Islands management area under the Fishery Management Plan for Groundfish of the Bering Sea and Aleutian Islands Management Area (FMP). The Magnuson-Stevens Fishery Conservation and Management Act (16 U.S.C. 1801 et seq.) authorizes the North Pacific Fishery Management Council to prepare and amend fishery management plans for any fishery in waters under its jurisdiction.

Amendment 82 to the FMP established a framework for the management of the Aleutian Islands subarea (AI) directed pollock fishery. Amendment 82 implemented a provision of the Consolidated Appropriations Act of 2004 (Pub. L. 108-199, sec. 803) that requires the AI directed pollock fishery be allocated to The Aleut Corporation for the purpose of economic development in Adak, Alaska. The Aleut Corporation is identified in Public Law 108-199 as a business incorporated pursuant to the Alaska Native Claims Settlement Act (43 U.S.C. 1601 et seq.). The Aleut Corporation's AI pollock fishery is set up so that harvesting pollock in the AI directed pollock fishery and processing pollock taken in the AI directed pollock fishery are authorized only for those harvesters and processors that are selected by The Aleut Corporation and approved by the NMFS Regional Administrator.

The purpose of this collection is for NMFS to obtain the list of vessels and processors selected by The Aleut Corporation to harvest and process its annual AI pollock allocation. NMFS uses this information to manage the AI pollock fishery. Without this information, NMFS would not know the participants selected by The Aleut Corporation and could not determine harvest rates, which may result in allocations being exceeded.

The Aleut Corporation is required by Federal regulations at 50 CFR 679.4(m)(2) to provide its selected harvesters and processors to NMFS for approval. The Aleut Corporation must submit its selections to NMFS each year at least 14 days before harvesting pollock or processing pollock in the AI directed pollock fishery. The information submitted by The Aleut Corporation consists of the names of the harvesting vessels and processors it has selected, the Federal fisheries permit numbers or Federal processor permit numbers of these participants, and the fishing year for which approval is requested. No information is submitted in years that the Aleut Corporation will not be harvesting or processing pollock in the AI directed fishery.

On approval, NMFS sends The Aleut Corporation a letter that includes a list of the approved participants. A copy of this letter must be retained on board each participating vessel and on site each shoreside processor at all times.

More information on the AI pollock fishery is provided on the NMFS Alaska Region website at https://www.fisheries.noaa.gov/alaska/sustainable-fisheries/aleutian-islands-pollock-fishery-alaska.

II. Method of Collection

The participant letter may be submitted to NMFS by mail, delivery, email, or fax.

III. Data

OMB Control Number: 0648-0513.

Form Number(s): None.

Type of Review: Regular submission (extension of a current information collection).

Affected Public: Business or other for-profit organizations.

Estimated Number of Respondents: 1.

Estimated Time per Response: Annual Aleutian Islands Fishery Participant Letter, 16 hours.

Estimated Total Annual Burden Hours: 16 hours.

Estimated Total Annual Cost to Public: $5 in recordkeeping and reporting costs.

Respondent's Obligation: Required to Obtain or Retain Benefits.

Legal Authority: Consolidated Appropriations Act of 2004; Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-28460 Filed 12-4-24; 8:45 am]

BILLING CODE 3510-22-P